ENVIRONMENTAL PROTECTION AGENCY

[EPA-HQ-OPPT-2024-0057; FRL-11683-09-OCSPP]

Certain New Chemicals; Receipt and Status Information for September 2024

AGENCY: Environmental Protection Agency (EPA).

ACTION: Notice.

SUMMARY: EPA is required under the Toxic Substances Control Act (TSCA), as amended by the Frank R. Lautenberg Chemical Safety for the 21st Century Act, to make information publicly available and to publish information in the Federal Register pertaining to submissions under TSCA Section 5, including notice of receipt of a Premanufacture notice (PMN), Significant New Use Notice (SNUN) or Microbial Commercial Activity Notice (MCAN), including an amended notice or test information; an exemption application (Biotech exemption); an application for a test marketing exemption (TME), both pending and/or concluded; a notice of commencement (NOC) of manufacture (including import) for new chemical substances; and a periodic status report on new chemical substances that are currently under EPA review or have recently concluded review. This document covers the period from 9/1/2024 to 9/30/2024.

DATES: Comments identified by the specific case number provided in this document must be received on or before November 22, 2024.

ADDRESSES: Submit your comments, identified by docket identification (ID) number EPA-HQ-OPPT-2024-0057, through the Federal eRulemaking Portal at https://www.regulations.gov. Follow the online instructions for submitting comments. Do not submit electronically any information you consider to be Confidential Business Information (CBI) or other information whose disclosure is restricted by statute. Additional instructions on commenting and visiting the docket, along with more information about dockets generally, is available at https://www.epa.gov/dockets.

FOR FURTHER INFORMATION CONTACT:

For technical information contact: Jim Rahai, Project Management and Operations Division (MC 7407M), Office of Pollution Prevention and Toxics, Environmental Protection Agency, 1200 Pennsylvania Ave. NW, Washington, DC 20460-0001; telephone number: (202) 564-8593; email address: rahai.jim@epa.gov.

For general information contact: The TSCA-Hotline, ABVI-Goodwill, 422 South Clinton Ave., Rochester, NY 14620; telephone number: (202) 554-1404; email address: TSCA-Hotline@epa.gov.

SUPPLEMENTARY INFORMATION:

I. Executive Summary

A. What action is the Agency taking?

This document provides the receipt and status reports for the period from 9/1/2024 to 9/30/2024. The Agency is providing notice of receipt of PMNs, SNUNs, and MCANs (including amended notices and test information); an exemption application under 40 CFR part 725 (Biotech exemption); TMEs, both pending and/or concluded; NOCs to manufacture a new chemical substance; and a periodic status report on new chemical substances that are currently under EPA review or have recently concluded review.

EPA is also providing information on its website about cases reviewed under the amended TSCA, including the section 5 PMN/SNUN/MCAN and exemption notices received, the date of receipt, the final EPA determination on the notice, and the effective date of EPA's determination for PMN/SNUN/MCAN notices on its website at: https://www.epa.gov/reviewing-new-chemicals-under-toxic-substances-control-act-tsca/status-pre-manufacture-notices. This information is updated on a weekly basis.

B. What is the Agency's authority for taking this action?

Under the Toxic Substances Control Act (TSCA), 15 U.S.C. 2601 et seq., a chemical substance may be either an “existing” chemical substance or a “new” chemical substance. Any chemical substance that is not on EPA's TSCA Inventory of Chemical Substances (TSCA Inventory) is classified as a “new chemical substance,” while a chemical substance that is listed on the TSCA Inventory is classified as an “existing chemical substance.” (See TSCA section 3(11).) For more information about the TSCA Inventory please go to: https://www.epa.gov/tsca-inventory.

Any person who intends to manufacture (including import) a new chemical substance for a non-exempt commercial purpose, or to manufacture or process a chemical substance in a non-exempt manner for a use that EPA has determined is a significant new use, is required by TSCA section 5 to provide EPA with a PMN, MCAN, or SNUN, as appropriate, before initiating the activity. EPA will review the notice, make a risk determination on the chemical substance or significant new use, and take appropriate action as described in TSCA section 5(a)(3).

TSCA section 5(h)(1) authorizes EPA to allow persons, upon application and under appropriate restrictions, to manufacture or process a new chemical substance, or a chemical substance subject to a significant new use rule (SNUR) issued under TSCA section 5(a)(2), for “test marketing” purposes, upon a showing that the manufacture, processing, distribution in commerce, use, and disposal of the chemical will not present an unreasonable risk of injury to health or the environment. This is referred to as a test marketing exemption, or TME. For more information about the requirements applicable to a new chemical go to: https://www.epa.gov/chemicals-under-tsca.

Under TSCA sections 5 and 8 and EPA regulations, EPA is required to publish in the Federal Register certain information, including notice of receipt of a PMN/SNUN/MCAN (including amended notices and test information); an exemption application under 40 CFR part 725 (biotech exemption); an application for a TME, both pending and concluded; NOCs to manufacture a new chemical substance; and a periodic status report on the new chemical substances that are currently under EPA review or have recently concluded review.

C. Does this action apply to me?

This action provides information that is directed to the public in general.

D. Does this action have any incremental economic impacts or paperwork burdens?

No.

E. What should I consider as I prepare my comments for EPA?

1. Submitting confidential business information (CBI). Do not submit this information to EPA through regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When preparing and submitting your comments, see the commenting tips at https://www.epa.gov/dockets/commenting-epa-dockets.

II. Status Reports

In the past, EPA has published individual notices reflecting the status of TSCA section 5 filings received, pending, or concluded. In 1995, the Agency modified its approach and streamlined the information published in the Federal Register after providing notice of such changes to the public and an opportunity to comment (see the Federal Register of May 12, 1995 (60 FR 25798) (FRL-4942-7)). Since the passage of the Lautenberg amendments to TSCA in 2016, public interest in information on the status of section 5 cases under EPA review and, in particular, the final determination of such cases, has increased. In an effort to be responsive to the regulated community, the users of this information, and the general public, to comply with the requirements of TSCA, to conserve EPA resources and to streamline the process and make it more timely, EPA is providing information on its website about cases reviewed under the amended TSCA, including the section 5 PMN/SNUN/MCAN and exemption notices received, the date of receipt, the final EPA determination on the notice, and the effective date of EPA's determination for PMN/SNUN/MCAN notices on its website at: https://www.epa.gov/reviewing-new-chemicals-under-toxic-substances-control-act-tsca/status-pre-manufacture-notices. This information is updated on a weekly basis.

III. Receipt Reports

For the PMN/SNUN/MCANs that have passed an initial screening by EPA during this period, Table I provides the following information (to the extent that such information is not subject to a CBI claim) on the notices screened by EPA during this period: The EPA case number assigned to the notice that indicates whether the submission is an initial submission, or an amendment, a notation of which version was received, the date the notice was received by EPA, the submitting manufacturer (i.e., domestic producer or importer), the potential uses identified by the manufacturer in the notice, and the chemical substance identity.

As used in each of the tables in this unit, (S) indicates that the information in the table is the specific information provided by the submitter, and (G) indicates that this information in the table is generic information because the specific information provided by the submitter was claimed as CBI. Submissions which are initial submissions will not have a letter following the case number. Submissions which are amendments to previous submissions will have a case number followed by the letter “A” (e.g., P-18-1234A). The version column designates submissions in sequence as “1”, “2”, “3”, etc. Note that in some cases, an initial submission is not numbered as version 1; this is because earlier version(s) were rejected as incomplete or invalid submissions. Note also that future versions of the following tables may adjust slightly as the Agency works to automate population of the data in the tables.

Table I—PMN/SNUN/MCANs Approved From 9/1/2024 to 9/30/2024
Case No. | Version | Received date | Manufacturer | Use | Chemical substance
P-20-0174A | 7 | 08/29/2024 | P2 Science, Inc | (S) For use in consumer products, as well as direct addition to consumer products. Specific functions would be as solubilizer, rheology modifier and fragrance oil. The candidate substance is expected to be used as an ingredient in the formulation of a broad range of consumer products including but not limited to laundry detergents, cleaners, fabric softeners, air fresheners, etc. In addition, it is anticipated to be added as an ingredient to fragrances by fragrance manufacturers, who will then supply these fragrances to downstream consumer product companies to use in the manufacture of their goods. The anticipated range of use levels is 0.1-5.0% | (S) 6-Octen-1-ol, 3,7-dimethyl-, homopolymer, monoacetate.
P-20-0184A | 5 | 08/29/2024 | P2 Science, Inc | (S) For use in fragrances for consumer products, as well as direct addition to consumer products. Specific functions would be as solubilizer, rheology modifier and fragrance oil The candidate substance is expected to be used as an ingredient in the formulation of a broad range of consumer products including but not limited to laundry detergents, cleaners, fabric softeners, air fresheners, etc. In addition, it is anticipated to be added as an ingredient to fragrances by fragrance manufacturers, who will then supply these fragrances to downstream consumer product companies to use in the manufacture of their goods. The anticipated range of typical use levels is 0.1-5.0% | (S) 6-Octen-1-ol, 3,7-dimethyl-, homopolymer.
P-22-0158A | 4 | 09/06/2024 | Aqdot | (G) Additive used in consumer, commercial, and industrial applications | (S) 1H,4H,14H,17H-2,16:3,15-Dimethano-5H,6H,7H,8H,9H,10H,11H,12H,13H,18H,19H,20H,21H,22H,23H,24H,25H,26H-2,3,4a,5a,6a,7a,8a,9a,10a,11a,12a,13a,15,16,17a,18a,19a,20a,21a,22a,23a,24a,25a,26a-*tetracosaazabispentaleno[1″′,6″′:5″,6″,7″]cycloocta[1″,2″,3″:3′,4′]pentaleno[1′,6′:5,6,7]cycloocta[1,2,3-gh:1′,2′,3′-g′h′]cycloocta[1,2,3-cd:5,6,7-c′d′]dipentalene-1,4,6,8,10,12,14,17,19,21,23,25-dodecone, dodecahydro-, stereoisomer;2,18:3,17-Dimethano-2,3,4a,5a,6a,7a,8a,9a,10a,11a,12a,13a,14a,15a,17,18,19a,20a,21a,22a,23a,24a,25a,26a,27a,28a,29a,30aoctacosaazabispentaleno[1″″′,6″″′:5″″,6″″,7″″]cycloocta[1″″,2″″,3″″:3″′,4″′]pentaleno[1″′,6″′:5″,6″,7″]cycloocta[1″,2″,3″:3′,4′]pentaleno[1′,6′:5,6,7]cycloocta[1,2,3-cd:1′,2′,3′-gh]pentalene-1,4,6,8,10,12,14,16,19,21,23,25,27,29-tetradecone, tetradecahydro-, stereoisomer;2,20:3,19-Dimethano-2,3,4a,5a,6a,7a,8a,9a,10a,11a,12a,13a,14a,15a,16a,17a,19,20,21a,22a,23a,24a,25a,26a,27a,28a,29a,30a,31a,32a,33a,34adotriacontaazabispentaleno[1″″′,6″″′:5″″,6″″,7″″]cycloocta[1″″,2″″,3″″:3″′,4″′]pentaleno[1″′,6″′:5″,6″,7″]cycloocta[1″,2″,3″:3′,4′]pentaleno[1′,6′:5,6,7]cycloocta[1,2,3-gh:1′,2′,3′-g′h′]cycloocta[1,2,3-cd:5,6,7-c′d′]dipentalene- 1,4,6,8,10,12,14,16,18,21,23,25,27,29,31,33-hexadecone, hexadecahydro-, stereoisomer.
P-23-0117A | 6 | 09/04/2024 | Braven Environmental, LLC | (S) Feedstock blended into fuels and fuel blendstocks; Chemical feedstock | (G) Waste plastics, pyrolyzed, condensate.
P-23-0138A | 2 | 08/27/2024 | CBI | (S) Photoinitiator: Amine Synergists or Amine Acrylates like OPV and industrial coatings (pigmented systems like offset, flexo and inkjets) No domestic production as this product is for import only | (S) Benzoic acid, 2-([1,1′-biphenyl]-4-ylcarbonyl)-, 2-ethylhexyl ester.
P-23-0149A | 4 | 09/20/2024 | CBI | (S) This material is a catalyst | (G) Dialkyltin Fatty acids ester.
P-23-0189A | 2 | 09/06/2024 | CBI | (G) Component in polymers | (G) Dimethanocarbopolycycle, alkyl-polyhydro-.
P-23-0189A | 3 | 09/10/2024 | CBI | (G) Component in polymers | (G) Dimethanocarbopolycycle, alkyl-polyhydro-.
P-24-0086A | 2 | 09/24/2024 | HydroGraph | (S) Thermosets a. Automotive parts: Used to manufacture various automotive components, such as brake pads, engine mounts, electrical connectors, and interior trim, due to their excellent heat resistance and mechanical properties | (S) few layer, non-functionalized, turbostratic graphene in a powdered form of aggregated nano-platelets from carbon-rich gas explosion synthesis.
P-24-0087A | 2 | 09/24/2024 | HydroGraph | (S) Alternative energy: Wind blades and solar panels, Construction materials including concrete, asphalt, and other engineered materials | (S) few layer, non-functionalized, turbostratic graphene in a powdered form of aggregated nano-platelets from carbon-rich gas explosion synthesis.
P-24-0104A | 6 | 09/12/2024 | CBI | (G) Plastic additive | (G) carbomonocycle alkylamide, 3,5-bis(1,1-dialkyl)-N-[2,5-dioxo-3-(polyalkylene)-1- heteromonocyclic]- -4-hydroxy-.
P-24-0158A | 3 | 09/03/2024 | CBI | (G) Resin for packaging, battery technology | (G) Polyhydroxyalkanoate.
P-24-0186A | 3 | 09/04/2024 | SGP Ventures, Inc | (S) Epoxy used to fill holes in printed circuit boards | (S) 2-Oxiranemethanamine, N-[2-methyl-4-(2-oxiranylmethoxy)phenyl]-N-(2-oxiranylmethyl)-.
P-24-0192A | 4 | 09/23/2024 | Bruhl Chemical Trade, Inc | (S) Paints, coatings and inks | (S) 4-Hydroxybenzophenone, ethoxylated, esters with acrylic acid.
P-24-0192A | 5 | 09/26/2024 | Bruhl Chemical Trade, Inc | (S) Paints, coatings and inks | (S) poly(oxy-1,2-ethanediyl), alpha-(1-oxo2-propen-1-yl)-omega-(4-benzoylphenoxy)-.
P-24-0193 | 1 | 09/13/2024 | CBI | (G) Dispersive Use | (G) Perfluorosulfonic acid polymer, with perfluorodioxolane.
P-24-0195 | 1 | 09/26/2024 | CBI | (G) Heat transfer fluid, Dielectric testing | (G) Trimers of hexafluoropropene.
SN-22-0006A | 4 | 08/30/2024 | MacDermid Enthone, Inc | (G) Catalyst (contained use) | (S) Tungstate (W12(OH)2O386-), sodium (1:6).
SN-22-0006A | 5 | 09/16/2024 | MacDermid Enthone, Inc | (G) Catalyst (contained use) | (S) Tungstate (W12(OH)2O386-), sodium (1:6).
SN-22-0007A | 8 | 09/04/2024 | Braven Environmental, LLC | (G) Product of Pyrolysis manufacturing | (S) Waste plastics, pyrolyzed, C5-12 fraction.
SN-22-0008A | 9 | 09/04/2024 | Braven Environmental, LLC | (G) Product of Pyrolysis Manufacturing | (S) Waste plastics, pyrolyzed, C20-55 fraction.
SN-22-0009A | 8 | 09/04/2024 | Braven Environmental, LLC | (G) Product of Pyrolysis Manufacturing | (S) Waste plastics, pyrolyzed, C9-20 fraction.

In Table II of this unit, EPA provides the following information (to the extent that such information is not claimed as CBI) on the NOCs that have passed an initial screening by EPA during this period: The EPA case number assigned to the NOC including whether the submission was an initial or amended submission, the date the NOC was received by EPA, the date of commencement provided by the submitter in the NOC, a notation of the type of amendment (e.g., amendment to generic name, specific name, technical contact information, etc.) and chemical substance identity.

Table II—NOCs Approved From 9/1/2024 to 9/30/2024
Case No. | Received date | Commencement date | If amendment, type of amendment | Chemical substance
P-18-0014A | 09/09/2024 | 04/22/2024 | Revised specific chemical name | (G) Sulfonium, triphenyl-, salt with disubstituted-heterocyclic compound (1:1).
P-19-0095A | 09/12/2024 | 03/26/2024 | Revised generic chemical name | (G) Alkane, mixed with carbon dioxide and oxygen, fermented, hydroxyalkanoic acid homopolymer.
P-19-0173 | 09/05/2024 | 09/05/2024 | N | (S) Benzoic acid, 2,4-dichloro-5-fluoro-.
P-19-0175 | 09/06/2024 | 09/06/2024 | N | (S) Benzoic acid, 5-chloro-2-methyl-.
P-19-0182 | 09/05/2024 | 09/05/2024 | N | (S) Benzoic acid, 2,4-dichloro-5-fluoro-, sodium salt (1:1).
P-19-0184 | 09/06/2024 | 09/06/2024 | N | (S) Benzoic acid, 5-chloro-2-methyl-, sodium salt (1:1).
P-20-0122A | 09/09/2024 | 04/22/2024 | Revised generic chemical name | (G) Heterocyclic onium compound with fluorosubstitutedalkyl 2-methyl-2-propenoate (1:1), polymer with acenaphthylene, 4-ethenyl-alpha,alpha-dimethylbenzenemethanol and 4-ethenylphenyl acetate, hydrolyzed.
P-21-0002 | 09/18/2024 | 12/20/2022 | N | (G) Octadecanoic acid, 12-hydroxy-, polymer with aziridine, 2-oxepanone and tetrahydro-2H-pyran-2-one, reaction products with disubstituted heteropolycycle.
P-21-0034 | 09/26/2024 | 09/14/2024 | N | (G) Polymer modified multifunctional silane.
P-22-0137A | 09/17/2024 | 09/10/2024 | N | (G) Aklyl dialkylamine.
P-22-0138 | 09/17/2024 | 09/16/2024 | N | (G) Tetraalkylammonium chloride.
P-23-0032 | 09/26/2024 | 09/12/2024 | N | (S) 1, 3-propanediol, polymer with 1, 3-diisocyanatomethylbenzene.
P-23-0102 | 09/18/2024 | 09/01/2024 | N | (G) Glycerides from fermentation of genetically modified microorganism.
P-23-0134 | 09/12/2024 | 08/14/2024 | N | (S) Poly[oxy(methyl-1,2-ethanediyl)],alpha-hydro-omega-{[2-[(1-chloro-9-oxo-9H-thioxanthen-4-yl)oxy]acetyl]oxy}-,ether with 2,2-bis(hydroxymethyl)-1,3-propanediol (4:1).
P-23-0142 | 09/27/2024 | 09/26/2024 | N | (G) Alkenal, 9-(acetyloxy)-, (E)-.
P-23-0160 | 09/04/2024 | 08/26/2024 | N | (G) Alkenoyl chloride, 3-methyl-.
P-23-0170 | 09/04/2024 | 08/19/2024 | N | (G) Ethanaminium, 2-[3-(2,5-dioxo-1-heteromonocyclic) propoxy]-N,N,N-trimethyl-, monopolyisobutylene derivs., Me ethanedioate.
P-24-0005 | 09/12/2024 | 08/26/2024 | N | (S) [[1,1'-biphenyl]-4,4'-diol, reaction products with 4-cyclohexylphenol and 2,4,6-trichloro-1,3,5-triazinec.

In Table III of this unit, EPA provides the following information (to the extent such information is not subject to a CBI claim) on the test information that has been received during this time period: The EPA case number assigned to the test information; the date the test information was received by EPA, the type of test information submitted, and chemical substance identity.

Table III—Test Information Received From 9/1/2024 to 9/30/2024
Case No. | Received date | Type of test information | Chemical substance
P-14-0712 | 09/26/2024 | Polychlorinated Dibenzodioxins and Polychlorinated dibenzofurans Testing | (S) Waste plastics, pyrolyzed, C5-55 fraction.
P-16-0543 | 09/24/2024 | Exposure Monitoring Report | (G) Halogenophosphoric acid metal salt.
P-21-0180 | 09/18/2024 | Determination of Water Solubility Report | (G) Sulfonium, (halocarbomonocycle)diphenyl-, salt with 1-heterosubstituted-2-methylalkyl trihalobenzoate (1:1).
P-22-0086 | 09/26/2024 | Supplementary Test Data Report | (G) Phenoxathiinium, 10-phenyl-, 5-alkyl-2-alkyl-4-(2,4,6-substituted tri- carbopolycycle, hetero-acid)benzenesulfonate (1:1).
P-22-0179 | 09/18/2024 | Water Solubility: Column Elution Method; Shake Flask Method (OECD Test Guideline 105) | (G) Sulfonium, (alkylsubstitutedphenyl)diphenyl-, salt with 1-(heterosubstitutedalkyl)-2,2,2-triheterosubstitutedalkyl trisubstitutedbenzoate (1:1).
P-22-0180 | 09/18/2024 | Water Solubility: Column Elution Method; Shake Flask Method (OECD Test Guideline 105) | (G) Dibenzothiophenium, 5-phenyl-, 4-[1-(heterosubstitutedalkyl)-2,2,2-triheterosubstitutedalkoxy]-4-oxoalkyl trisubstitutedbenzoate (1:1).
P-24-0097 | 09/18/2024 | Water Solubility: Column Elution Method; Shake Flask Method (OECD Test Guideline 105) | (G) Sulfonium, tris(4-fluorophenyl)-, (substitutedphenoxy)alkyl substitutedbenzoate (1:1).

If you are interested in information that is not included in these tables, you may contact EPA's technical information contact or general information contact as described under FOR FURTHER INFORMATION CONTACT to access additional non-CBI information that may be available.

Authority: 15 U.S.C. 2601 et seq.

Dated: October 17, 2024.
Pamela Myrick,
Director, Project Management and Operations Division, Office of Pollution Prevention and Toxics.

[FR Doc. 2024-24503 Filed 10-22-24; 8:45 am]

BILLING CODE 6560-50-P